ENVIRONMENTAL PROTECTION AGENCY

[EPA-HQ-OPP-2011-0038; FRL-8861-1]

Cambridge Environmental Inc; Transfer of Data

AGENCY: Environmental Protection Agency (EPA).

ACTION: Notice.

SUMMARY: This notice announces that pesticide related information submitted to EPA's Office of Pesticide Programs (OPP) pursuant to the Federal Insecticide, Fungicide, and Rodenticide Act (FIFRA) and the Federal Food, Drug, and Cosmetic Act (FFDCA), including information that may have been claimed as Confidential Business Information (CBI) by the submitter, will be transferred to Cambridge Environmental Inc. in accordance with 40 CFR 2.307(h)(3) and 2.308(i)(2). Cambridge Environmental Inc. has been awarded a contract to perform work for OPP, and access to this information will enable Cambridge Environmental Inc. to fulfill the obligations of the contract.

DATES: Cambridge Environmental Inc., will be given access to this information on or before March 7, 2011.

FOR FURTHER INFORMATION CONTACT: Mario Steadman, Information Technology and Resources Management Division (7502P), Office of Pesticide Programs, Environmental Protection Agency, 1200 Pennsylvania Ave., NW., Washington, DC 20460-0001; telephone number: (703) 305-8338 e-mail address: steadman.mario@epa.gov.

SUPPLEMENTARY INFORMATION:

I. General Information

A. Does this action apply to me?

This action applies to the public in general. As such, the Agency has not attempted to describe all the specific entities that may be affected by this action. If you have any questions regarding the applicability of this action to a particular entity, consult the person listed under FOR FURTHER INFORMATION CONTACT.

B. How can I get copies of this document and other related information?

EPA has established a docket for this action under docket identification (ID) number EPA-HQ-OPP-2011-0038. Publicly available docket materials are available either in the electronic docket at http://www.regulations.gov, or, if only available in hard copy, at the Office of Pesticide Programs (OPP) Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

II. Contractor Requirements

Under contract number, [EP-W-11-020], Cambridge Environmental Inc., will review, evaluate a portion of a risk assessment, or investigate issues related to a submitted risk assessment to inform Agency scientists in evaluating assessments. This includes evaluating the applicability of the data and methods used in the assessment, and the soundness of the conclusions.

Develop and enhance risk assessment methods and tools which includes: Investigating and developing new assessment methods and tools, developing, evaluating and recommending improvements to existing tools and methods, or investigating issues related to the risk assessment process to include literature searches and preparation of options and other recommendations. This procurement will also provide additional support to EPA in investigating science policy issues related to probabilistic risk assessments and the development of science issues and problems associated with assessing pesticide data or risk. The contractor may develop policy options for evaluation and consideration by EPA.

Upon request, the contractor shall organize workshops to facilitate gathering scientific input and discussion on issues related to specific chemicals, groups of chemicals, or generic risk exposure and risk assessment issues. The contractor will organize and facilitate the meetings, organize materials in preparation for the meetings, take notes, gather the comments and presentations, organize and distribute notes and summaries from the meetings, and develop recommendations and options papers from the workshops.

In most instances, the project officer will make available to the contractor the data, studies, and information which are to be used. Occasionally the project officer will request that the contractor search open literature and collect and aggregate extant monitoring data or additional information to support an assessment. The material will be provided in printed form (originals or reprints of each study) and/or electronic form. Due dates for each data package and/or assessment and/or project shall be negotiated between the project officer and the contractor.

The contractor shall supply the necessary labor, materials, equipment, software, services and facilities required for the performance of each work assignment. The scientific quality of reviews, assessments, reports, model tools, and software and their timely preparation in accordance with negotiated schedules are of paramount importance in the performance of this contract.

This contract involves no subcontractors.

OPP has determined that the contract described in this document involves work that is being conducted in connection with FIFRA, in that pesticide chemicals will be the subject of certain evaluations to be made under this contract. These evaluations may be used in subsequent regulatory decisions under FIFRA.

Some of this information may be entitled to confidential treatment. The information has been submitted to EPA under sections 3, 4, 6, and 7 of FIFRA and under sections 408 and 409 of FFDCA.

In accordance with the requirements of 40 CFR 2.307(h)(3), the contract with Cambridge Environmental Inc. prohibits use of the information for any purpose not specified in this contract; prohibits disclosure of the information to a third party without prior written approval from the Agency; and requires that each official and employee of the contractor sign an agreement to protect the information from unauthorized release and to handle it in accordance with the FIFRA Information Security Manual. In addition, Cambridge Environmental Inc. is required to submit for EPA approval a security plan under which any CBI will be secured and protected against unauthorized release or compromise. No information will be provided to Cambridge Environmental Inc. until the requirements in this document have been fully satisfied. Records of information provided to Cambridge Environmental Inc. will be maintained by EPA Project Officers for this contract. All information supplied to Cambridge Environmental Inc. by EPA for use in connection with this contract will be returned to EPA when Cambridge Environmental Inc. has completed its work.

List of Subjects

Environmental protection, Business and industry, Government contracts, Government property, Security measures.

Dated: March 1, 2011.
Michael Hardy,
Acting Director, Information Technology and Resources Management Division, Office of Pesticide Programs.

[FR Doc. 2011-5343 Filed 3-4-11; 4:15 pm]

BILLING CODE 6560-50-P